DEPARTMENT OF JUSTICE

Notice of Lodging of Proposed Consent Decree Under the Clean Water Act

On November 18, 2025, the Department of Justice lodged a proposed consent decree with the United States District Court for the Middle District of Pennsylvania in the lawsuit entitled Lower Susquehanna Riverkeeper Association et al. v. Hanover Foods Corporation, Civil Action No. 1:21-cv-01600-JPW.

This is a civil action initiated by the Lower Susquehanna Riverkeeper Association against Hanover Foods Corporation (“Hanover”), involving claims under the Clean Water Act (“CWA”) and The Pennsylvania Clean Streams Law (“PCSL”). The United States, on behalf of the U.S. Environmental Protection Agency, and the Commonwealth of Pennsylvania, Department of Environmental Protection (“PADEP”), were granted intervention in this case on October 1, 2025. The United States' and PADEP's complaint-in-intervention also brings claims under the CWA and the PCSL based on similar and overlapping alleged violations. These include violations of effluent limits, other discharge limitations, and operation and maintenance requirements in Hanover's National Pollutant Discharge Elimination System permit at its food-processing and canning facility in Hanover, York County, Pennsylvania. The complaint-in-intervention seeks civil penalties and injunctive relief for Hanover's alleged violations.

The consent decree, which would resolve all plaintiffs' claims, requires the Defendant to pay a $1,150,000 civil penalty, which will be split evenly between the United States and PADEP. The Defendant has also agreed to implement measures to bring Hanover's facility into compliance, improve its operational practices, and prevent future violations.

The publication of this notice opens a period for public comment on the consent decree. Comments should be addressed to the Acting Assistant Attorney General, Environment and Natural Resources Division, and should refer to Lower Susquehanna Riverkeeper Association et al. v. Hanover Foods Corporation, D.J. Ref. No. 90-5-1-12557. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Department of Justice website: https://www.justice.gov/enrd/consent-decrees. If you require assistance accessing the consent decree, you may request assistance by email or by mail to the addresses provided above for submitting comments.

Jason Dunn,
Assistant Section Chief, Environmental Enforcement Section, Environment and Natural Resources Division.

[FR Doc. 2025-20477 Filed 11-20-25; 8:45 am]

BILLING CODE 4410-15-P